INTERNATIONAL TRADE COMMISSION

[Investigation No. 731-TA-344 (Third Review)]

Tapered Roller Bearings From China

Determination

On the basis of the record ¹ developed in the subject five-year review, the United States International Trade Commission (Commission) determines, pursuant to section 751(c) of the Tariff Act of 1930 (19 U.S.C. 1675(c)), that revocation of the antidumping duty order on tapered roller bearings from China would be likely to lead to continuation or recurrence of material injury to an industry in the United States within a reasonably foreseeable time.²

¹ The record is defined in sec. 207.2(f) of the Commission's Rules of Practice and Procedure (19 CFR 207.2(f)).

² Commissioner Deanna Tanner Okun did not participate in this five-year review.

Background

The Commission instituted this review on August 1, 2011 (76 FR 45853) and determined on November 4, 2011 that it would conduct a full review (76 FR 72213, November 22, 2011). Notice of the scheduling of the Commission's review and of a public hearing to be held in connection therewith was given by posting copies of the notice in the Office of the Secretary, U.S. International Trade Commission, Washington, DC, and by publishing the notice in the Federal Register on February 29, 2012 (77 FR 12326). The hearing was held in Washington, DC, on June 19, 2012, and all persons who requested the opportunity were permitted to appear in person or by counsel.

The Commission transmitted its determination in this review to the Secretary of Commerce on August 16, 2012. The views of the Commission are contained in USITC Publication 4343 (August 2012), entitled Tapered Roller Bearings from China: Investigation No. 731-TA-344 (Third Review).

By order of the Commission.
Issued: August 16, 2012.
Lisa R. Barton,
Acting Secretary to the Commission.

[FR Doc. 2012-20600 Filed 8-21-12; 8:45 am]

BILLING CODE 7020-02-P